DEPARTMENT OF COMMERCE

National Oceanic and Atmospheric Administration

[RTID 0648-XE460]

South Atlantic Fishery Management Council; Public Meeting

AGENCY: National Marine Fisheries Service (NMFS), National Oceanic and Atmospheric Administration (NOAA), Commerce.

ACTION: Notice of a public meeting.

SUMMARY: The South Atlantic Fishery Management Council (Council; SAFMC) will hold meetings of the following: Citizen Science Committee; Dolphin Wahoo Committee; Southeast Data, Assessment, and Review (SEDAR) Committee; and Snapper Grouper Committee. The meeting week will also include a formal public comment session and meetings of the Full Council.

DATES: The Council meeting will be held from 8:30 a.m. on Monday, December 2, 2024, until 12 p.m. on Friday, December 6, 2024.

ADDRESSES:

Meeting address: The meeting will be held at the Lumina Holiday Inn, 1706 N Lumina Avenue, Wrightsville Beach, NC 28480; telephone: (910) 256-2231. The meeting will also be available via webinar. See SUPPLEMENTARY INFORMATION.

FOR FURTHER INFORMATION CONTACT: Kim Iverson, Public Information Officer, SAFMC; telephone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/december-2024-council-meeting/. Written comments will be accepted from November 15, 2024 until December 6, 2024. These comments are accessible to the public, part of the Administrative Record of the meeting, and immediately available for Council consideration. A formal public comment session will also be held during the Council meeting.

The items of discussion in the individual meeting agendas are as follows:

Council Session I, Monday, December 2, 2024, 8:30 a.m. until 10:30 a.m. (CLOSED SESSION)

The Council will meet in closed session to receive a litigation brief if needed, review the advisory panel policy, address appointments to advisory panels and the Council's Citizen Science Advisory Committee and review the Law Enforcement Officer of the Year process.

Council Session I, Monday, December 2, 2024, 10:30 a.m. until 5 p.m. and Tuesday, December 3, 2024, 8:30 a.m. until 12 p.m.

The Council will receive a litigation brief and reports from NOAA Office of Law Enforcement, the U.S. Coast Guard, Council liaisons, and state agencies. The Council will receive an update on the Southeast Reef Fish Survey (SERFS) and the Southeast Area Monitoring and Assessment Program (SEAMAP), an update on electronic reporting for Highly Migratory Species (HMS) from NOAA Fisheries, and review the Southeast For-Hire Integrated Electronic Reporting (SEFHIER) Improvement Amendment currently under development. The Amendment review will include recommendations from the Council's Social and Economic Panel, a presentation on the use of electronic vessel trip report data by the Mid-Atlantic Fishery Management Council, and a presentation on the SEFHEIR Program from NOAA Fisheries.

The Council will consider approving a summary allocations report on Atlantic Spadefish and the Jacks Complex. Council members will receive a report on Headboat Vessel Limits, a report on the recent Council Coordination Committee meeting, a staff report, and an update on Stakeholder Engagement Meetings.

Citizen Science Committee, Tuesday, December 3, 2024, 1:30 p.m. until 3:30 p.m.

The Committee will receive an update on the Citizen Science Program Evaluation, review recommendations, and receive a Citizen Science projects update.

Dolphin Wahoo Committee, Tuesday, December 3, 2024, 3:30 p.m. until 5 p.m.

The Committee will receive an update by NOAA Fisheries on the Dolphin Management Strategy Evaluation (MSE) for the dolphin fishery along the Atlantic coast, and discuss potential actions to include in Regulatory Amendment 3 to the Dolphin Wahoo Fishery Management Plan.

SEDAR Committee, Wednesday, December 4, 2024, 8:30 a.m. until 10:30 a.m.

The SEDAR Committee will review recommendations from the Scientific and Statistical Committee (SSC) pertaining to proposed changes in the SEDAR stock assessment process. Council staff will also lead discussion on the topic of Key Stocks relative to the SEDAR process.

Snapper Grouper Committee, Wednesday, December 4, 2024, 10:30 a.m. until 3:45 p.m., and Thursday, December 5, 2024, 8:30 a.m. until 3 p.m.

The Committee will receive an update on the status of amendments under review from NOAA Fisheries, recommendations from the Snapper Grouper Advisory Panel on items not on the December meeting agenda, and review management measures proposed for black sea bass through Amendment 56 to the Snapper Grouper Fishery Management Plan. Review of Amendment 56 includes recommendations from the Snapper Grouper Advisory Panel and the Council's SSC. The Council will receive on the results of the MSE for the Snapper Grouper Fishery, including recommendations from the Snapper Grouper Advisory Panel and the SSC.

The Committee will discuss review approaches for ongoing assessments for blueline tilefish, yellowtail snapper, and mutton snapper, and discuss a management approach for the yellowtail snapper and mutton snapper stocks, which extend into the jurisdiction of the Gulf of Mexico Fishery Management Council. The Committee will receive a presentation on Stock Risk Rating for golden tilefish, blueline tilefish, red snapper, mutton snapper, and yellowtail snapper. The Committee will receive an update on Amendment 46 to the Snapper Grouper FMP addressing proposed Private Recreational Permit and Education requirements, including a report from the Snapper Grouper Private Angler Advisory Panel. The golden tilefish stock assessment will be the focus of a presentation by NOAA Fisheries and recommendations from the SSC will also be considered. A summary of the discussion of the Commercial Fishery Sub-Committee will conclude the Committee meeting.

Wednesday, December 4, 2024, 4 p.m.—Public comment will be accepted from individuals attending the meeting in person and via webinar on all items on the Council meeting agenda. The Council Chair will determine the amount of time provided to each commenter based on the number of individuals wishing to comment.

Council Session II, Thursday, December 5, 2024, 3 p.m. until 5 p.m. and Friday, December 6, 2024, 8 a.m. until 9 a.m. (Closed Session), and from 9 a.m. until 12 p.m. in open session.

The Council will receive agency reports from NOAA Fisheries Southeast Regional Office and NOAA Fisheries Southeast Fisheries Science Center, and a report from the Outreach and Communications AP. The Council will receive a report from the SSC on items not covered in committees and an update from the Florida Keys National Marine Sanctuary.

The Executive Director's annual review will be conducted during Closed Session. The Council will receive Committee reports, review the Council Workplan and upcoming meetings, and discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 8, 2024.
Alyssa Weigers,
Acting Deputy Director, Office of Sustainable Fisheries, National Marine Fisheries Service.

[FR Doc. 2024-26500 Filed 11-13-24; 8:45 am]

BILLING CODE 3510-22-P